NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 25, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Defense, Office of the Secretary of Defense (N1-330-05-1, 18 items, 11 temporary items). Paper copies of files accumulated by the Coalition Provisional Authority—Baghdad relating to policy and plans, operational and logistical support, and budget and finance that have been converted to an electronic format. Also included are electronic copies of documents created using electronic mail and word processing and records in all media relating to housekeeping activities, such as personnel management and internal office financial matters. Proposed for permanent retention are electronic versions of files relating to policy and plans, operational and logistical support, and budget and finance.

2. Department of Energy, Agency-wide (N1-434-05-1, 3 items, 3 temporary items). Case files consisting of paper or electronic records accumulated in connection with investigations that result in the debarment or suspension of contractors and grant recipients from contracting with or receiving assistance from the agency. Also included are electronic copies of records created using electronic mail and word processing.

3. Department of Homeland Security, United States Secret Service (N1-87-05-2, 7 items, 7 temporary items). Case files relating to investigations of agency employees, inspection reports relating to agency components, and files relating to other fact finding investigations and special projects. Also included are electronic copies of records created using electronic mail and word processing.

4. Department of Justice, Bureau of Alcohol, Tobacco, Firearms, and Explosives (N1-436-05-3, 3 items, 3 temporary items). Incident reports containing information or allegations which are of an investigative nature but do not relate to a specific investigation. Also included are electronic copies of documents created using electronic mail and word processing.

5. Department of Justice, Bureau of Prisons (N1-129-05-4, 7 items, 7 temporary items). Inputs, outputs, master files, and documentation associated with the Federal Prison Industries' Web-based customer service and sales system. Also included are electronic copies of records created using electronic mail and word processing.

6. Department of Labor, Office of Labor-Management Standards (N1-317-02-03, 33 items, 23 temporary items). General correspondence, reports and completed forms containing information received from labor organizations, financial data, employee reports, routine investigative files, and other records accumulated by the Office of Labor-Management Standards. Also included are records created using electronic mail and word processing. Records proposed for permanent retention include recordkeeping copies of program policy files, Assistant Secretary decision and order files, operations manuals, international labor reports, and significant investigative case files.

7. Department of Transportation, Bureau of Transportation Statistics (N1-570-04-4, 5 items, 4 temporary items). Records relating to organizational planning, including working papers that pertain to plans that were implemented and all documentation that relates to plans that were not. Also included are electronic copies of records created using electronic mail and word processing. Proposed for permanent retention are recordkeeping copies of studies and other records that relate to implemented organization plans, including organization charts, plans, and delegations of authority. This schedule authorizes the agency to apply the proposed disposition instructions to any recordkeeping medium.

8. Department of Transportation, Bureau of Transportation Statistics (N1-570-04-25, 3 items, 2 temporary items). Electronic copies of records created using electronic mail and word processing that relate to interagency and other external committees, task forces, and non-rulemaking workgroups. Proposed for permanent retention are recordkeeping copies of records that relate to committees for which the agency is the committee secretariat. This schedule authorizes the agency to apply the proposed disposition instructions to any recordkeeping medium.

9. Department of Transportation, Bureau of Transportation Statistics (N1-570-04-26, 3 items, 2 temporary items). Electronic copies of records created using electronic mail and word processing that relate to intra-agency and other internal committees, task forces, and non-rulemaking workgroups. Proposed for permanent retention are recordkeeping copies of records that relate to committees for which the agency is the committee secretariat. This schedule authorizes the agency to apply the proposed disposition instructions to any recordkeeping medium.

10. Department of Transportation, Bureau of Transportation Statistics (N1-570-04-27, 4 items, 3 temporary items). Working papers relating to management studies. Also included are electronic copies of records created using electronic mail and word processing. Proposed for permanent retention are recordkeeping copies of management studies, which relate to such matters as administrative policies and procedures, staffing, and management improvements. This schedule authorizes the agency to apply the proposed disposition instructions to any recordkeeping medium.

11. Department of Transportation, Bureau of Transportation Statistics (N1-570-04-33, 4 items, 4 temporary items). Background files relating to special studies and projects, including such records as working papers, drafts, informal notes taken at meetings, and reference materials. Also included are electronic copies of records created using electronic mail and word processing. Recordkeeping copies of studies and final project reports are proposed for permanent retention in another schedule. This schedule authorizes the agency to apply the proposed disposition instructions to any recordkeeping medium.

12. Department of Transportation, Bureau of Transportation Statistics (N1-570-04-34, 3 items, 2 temporary items). Electronic copies of final deliverables and reports created using electronic mail and word processing. Proposed for permanent retention are recordkeeping copies of all mission-related final deliverables, products, and reports submitted by contractors and grantees or produced in-house. This schedule authorizes the agency to apply the proposed disposition instructions to any recordkeeping medium.

13. Department of the Treasury, Bureau of Engraving and Printing (N1-318-04-12, 8 items, 5 temporary items). Records of the Historical Resources Center, including administrative files and subject files that relate to managing the agency's collection of historical objects. Also included are electronic copies of records created using electronic mail or word processing. Proposed for permanent retention are master files and documentation associated with the Historical Collections Database as well as historical research materials, such as agency histories, articles, and transcripts of interviews.

14. Environmental Protection Agency, Office of Environmental Information (N1-412-05-4, 7 items, 7 temporary items). Records accumulated in response to requests from the public to correct errors in information the agency distributes or disseminates, including requests for correction, requests for reconsideration, and electronic copies of records created using word processing and electronic.

Dated: January 31, 2005.
Michael J. Kurtz,
Assistant Archivist for Records Services—Washington, DC.

[FR Doc. 05-2380 Filed 2-7-05; 8:45 am]

BILLING CODE 7515-01-P